DEPARTMENT OF HEALTH AND HUMAN SERVICES

Centers for Disease Control and Prevention

Meeting of the ICD-9-CM Coordination and Maintenance Committee

National Center for Health Statistics (NCHS), Classifications and Public Health Data Standards Staff, announces the following meeting.

Name: ICD-9-CM Coordination and Maintenance Committee meeting.

Time and Date: 9 a.m.-4 p.m., March 31-April 1, 2005.

Place: Centers for Medicare and Medicaid Services (CMS) Auditorium, 7500 Security Boulevard, Baltimore, Maryland.

Status: Open to the public.

Purpose: The ICD-9-CM Coordination and Maintenance (C&M) Committee will hold its first meeting of the 2005 calendar year cycle on Thursday and Friday March 31-April 1, 2005. The C&M meeting is a public forum for the presentation of proposed modifications to the International Classification of Diseases, Ninth-Revision, Clinical Modification.

Matters to be Discussed: Agenda items include:

Sleep disorders

Epilepsy

Transfusion related lung injury (TRALI)

Failed hearing screening

Myelitis

Macrophage activation syndrome

Subtalar joint arthroereisis

360 degree spinal fusion

Implantation of interspinous process decompression device

Hip arthroplasty “ bearing surfaces

External fracture fixation devices

Endovascular implantation of graft in thoracic aorta Infusion of liquid radioisotope

Radiofrequency Total Occlusion Crossing System

ICD-10-Procedure Coding System (PCS) update Addenda

Contact Person for Additional Information: Amy Blum, Medical Systems Specialist, Classifications and Public Health Data Standards Staff, NCHS, 3311 Toledo Road, Room 2402, Hyattsville, Maryland 20782, telephone (301) 458-4106 (diagnosis), Amy Gruber, Health Insurance Specialist, Division of Acute Care, CMS, 7500 Security Blvd., Room C4-07-07, Baltimore, Maryland 21244 telephone (410) 786-1542 (procedures).

Notice: Because of increased security requirements,(CMS) has instituted stringent procedures for entrance into the building by non-government employees. Persons without a government I.D. will need to show an official form of picture I.D., (such as a drivers license), and sign-in at the security desk upon entering the building.

Those who wish to attend a specific ICD-9-CM C&M meeting in the CMS auditorium must submit their name and organization for addition to the meeting visitor list. Those wishing to attend the March 31-April 1, 2005 meeting must submit their name and organization by March 29, 2005 for inclusion on the visitor list. This visitor list will be maintained at the front desk of the CMS building and used by the guards to admit visitors to the meeting. Those who attended previous ICD-9-CM C&M meetings will no longer be automatically added to the visitor list. You must request inclusion of your name prior to each meeting you attend. Register to attend the meeting on-line at: http://cms.hhs.gov/events.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: March 2, 2005.
Alvin Hall,
Director, Management Analysis and Services Office, Centers for Disease Control and Prevention.

[FR Doc. 05-4428 Filed 3-7-05; 8:45 am]

BILLING CODE 4160-18-P